DEPARTMENT OF COMMERCE

National Oceanic and Atmospheric Administration

Gulf of Mexico Fishery Management Council; Public Hearings

AGENCY: National Marine Fisheries Service (NMFS), National Oceanic and Atmospheric Administration (NOAA), Commerce.

ACTION: Notice; public hearings and webinar.

SUMMARY: The Gulf of Mexico Fishery Management Council (Council) will hold two public hearings and one webinar to solicit public comments on Reef Fish Amendment 43—Hogfish stock definition, status determination criteria, annual catch limits, and size limit.

DATES: The public hearings will be held May 9-11, 2016. The hearings will begin at 6 p.m. and will conclude no later than 9 p.m. For specific dates and locations, see SUPPLEMENTARY INFORMATION. Written public comments must be received on or before 5 p.m. EST on Friday, May 6, 2016.

ADDRESSES: The public documents can be obtained by contacting the Gulf of Mexico Fishery Management Council, 2203 N. Lois Avenue, Suite 1100, Tampa, FL 33607; (813) 348-1630 or on their Web site at www.gulfcouncil.org.

Meeting addresses: The public hearings will be held in Naples and St. Petersburg, FL; and one webinar. For specific locations, see SUPPLEMENTARY INFORMATION.

Public comments: Comments may be submitted online through the Council's public portal by visiting www.gulfcouncil.org and clicking on “CONTACT US”.

FOR FURTHER INFORMATION CONTACT: Douglas Gregory, Executive Director, Gulf of Mexico Fishery Management Council; telephone: (813) 348-1630.

SUPPLEMENTARY INFORMATION: The agenda for the two public hearings and one webinar are as follows: Council staff will brief the public on Reef Fish Amendment 43. The staff will then open the meeting for questions and public comments.

Locations, Schedules, and Agendas

Monday, May 9, 2016; Holiday Inn Express & Suites, 1785—5th Avenue South, Naples, FL 34102; telephone: (239) 261-3500.

Tuesday, May 10, 2016; Holiday Inn Express, 2171—54th Avenue North, St. Petersburg, FL 33714; telephone: (727) 520-7800.

Wednesday, May 11, 2016, Webinar—6 p.m. EST at: https://attendee.gotowebinar.com/register/3081763240819912449.

After registering, you will receive a confirmation email containing information about joining the webinar.

Special Accommodations

These hearings are physically accessible to people with disabilities. Requests for sign language interpretation or other auxiliary aids should be directed to Kathy Pereira (see ADDRESSES), at least 5 working days prior to the meeting date.

Authority: 16 U.S.C. 1801 et seq.

Dated: April 12, 2016.
Tracey L. Thompson,
Acting Deputy Director, Office of Sustainable Fisheries, National Marine Fisheries Service.

[FR Doc. 2016-08778 Filed 4-14-16; 8:45 am]

BILLING CODE 3510-22-P